DEPARTMENT OF DEFENSE

Department of the Navy

Record of Decision for the Disposal and Reuse of Naval Air Station Brunswick, ME

AGENCY: Department of the Navy, DoD.

ACTION: Notice of record of decision.

SUMMARY: The U.S. Department of the Navy (Navy) announces its decision to dispose of the Naval Air Station (NAS) Brunswick property and its outlying properties (defined as the McKeen Street Housing Annex, East Brunswick Radio Transmitter Site, and Sabino Hill Rake Station) in a manner consistent with the Brunswick Naval Air Station Reuse Master Plan as outlined in the Final Environmental Impact Statement (FEIS) under Alternative 1, the Preferred Alternative.

FOR FURTHER INFORMATION CONTACT: Mr. David Drozd, BRAC Program Management Office (PMO) Northeast, 4911 Broad Street, Building 679, Philadelphia, Pennsylvania 19112-1303; telephone: 215-897-4909; e-mail: david.drozd@navy.mil.

The complete text of the ROD is available for public viewing on the Navy's BRAC PMO Web site at http://www.bracpmo.navy.mil/BrunswickEIS.aspx along with copies of the FEIS.

SUPPLEMENTARY INFORMATION: The Navy is required to close NAS Brunswick, in accordance with Public Law 101-510, the Defense Base Closure and Realignment Act of 1990, as amended in 2005 (BRAC Closure Law). Pursuant to Section 102(2)(c) of the National Environmental Policy Act (NEPA) of 1969, 42 U.S.C. 4321, et seq.; Council on Environmental Quality Regulations (40 CFR parts 1500-1508); and Navy regulations (32 CFR part 775), the Navy announces its decision to dispose of NAS Brunswick and its outlying properties in a manner consistent with the Brunswick Naval Air Station Reuse Master Plan (Reuse Master Plan) as developed and approved by the Brunswick Local Redevelopment Authority (BLRA). Full build-out of the Preferred Alternative is proposed to be implemented over a 20-year period. It is expected the redevelopment would follow the Reuse Plan's Community Design Guidelines and would incorporate low-impact development, smart growth principles, best management practices, and redevelopment design measures that incorporate energy conservation. The Preferred Alternative identified in the FEIS by the Navy best meets the purpose and need of the proposed action.

Environmental Impacts

Land Use: The Preferred Alternative would result in changes to existing land use conditions on the installation, including a more intensively built environment, new land uses, and open public access to the formerly secure and restricted military property. The Preferred Alternative is consistent with the Town of Brunswick 2008 Comprehensive Plan and Zoning Ordinance.

Cultural Resources: Under Section 106 of the National Historic Preservation Act, the Navy has completed formal Section 106 consultation to resolve all adverse effects to historic properties. Twenty structures on the installation property are eligible for listing in the National Register of Historic Places (NRHP) and thirty-five archaeological sites have been identified. The Navy and the Maine State Historic Preservation Office (SHPO) have finalized and executed a Programmatic Agreement (PA) that identifies measures to avoid, minimize, or mitigate the adverse effect of the proposed action on historic properties.

Biological Resources: There are no federally listed threatened or endangered species on the NAS Brunswick property. Three state-listed species are present, the upland sandpiper, grasshopper sparrow, and clothed sedge. There would be a potential impact on these three species because prime Sandplain Greenland habitat could be permanently removed because of development. The Sandplain Greenland habitat is considered a significant wildlife habitat under the Maine Natural Resource Protection Act (MNRPA). A permit would likely be required for any development within this habitat area. Such permitting would likely require review and approval from the Maine Department of Inland Fisheries and Wildlife (MDIFW) and Maine Natural Areas Program (MNAP).

Transportation: A net increase in vehicle trips and impacts on transportation could be mitigated by the developer through the planned expansion of and updates to existing roadways in the area.

Storm Water Management: Storm water mitigation will be outlined by the developer in a storm water management plan, as required by the Town of Brunswick.

Sediment and Erosion Control: Redevelopment of NAS Brunswick has the potential to cause soil erosion. The developer will be required to utilize mitigation measures in accordance with Maine's Erosion and Sediment Control Law and other applicable state laws.

Wetland Impacts: Implementation of the Preferred Alternative could potentially impact 51 acres of wetlands. In accordance with the Clean Water Act and MNRPA, wetland disturbance must be avoided by the developer where possible. If the developer cannot avoid wetland impacts, a wetland permit application will be required along with any necessary mitigation plan. Any potential impacts on significant vernal pools will require the developer to consult with the Maine Department of Environmental Protection (MDEP) and obtain a MNRPA permit.

Wildlife Habitat: Any redevelopment activities that may impact significant wildlife habitat will require the future developer to consult with the MNAP and MEDEP, as well as a permit from the NRPA. The consultation and permit processes will identify specific mitigation measures.

Response to Comments Received Regarding the FEIS: The Navy received comments from two agencies on the FEIS, the EPA and the state of Maine SHPO. The EPA recommended the Navy condition property transfer to address storm water management, Energy/LEED, and construction emissions requirements. The Navy expects that redevelopment will follow the Community Design Guidelines from the Reuse Master Plan, and applicable laws and regulations.

The Maine SHPO expressed concerns that the archaeological site at the East Brunswick Radio Transmitter Site was missing from the maps in the FEIS. The location of this site and other archaeological and culturally sensitive resources are identified in the Programmatic Agreement, Appendix O. In order to preserve the sensitivity of the specific site location, the figures and maps are not included; however, they are available to appropriate organizations and agencies.

Conclusions: In determining how to dispose of and reuse NAS Brunswick and its outlying properties, the following factors were considered: the results of the analysis of environmental and socioeconomic effects within the FEIS, relevant federal and state statutes and regulations, Midcoast Regional Redevelopment Authority's design guidelines, compatibility with the Reuse Master Plan and Town of Brunswick Zoning, and the comments received during the EIS process. After carefully weighing all of these factors and analyzing the data presented in the FEIS, the Preferred Alternative best meets the needs of the Navy while minimizing potential environmental impacts. The preferred alternative reuses the existing airfield and existing infrastructure at NAS Brunswick and promotes smart growth redevelopment, including walkable communities in a mix of residential and commercial uses. The preferred alternative preserves open space and provides the community with recreation areas. It provides for the disposal of NAS Brunswick and its outlying properties by the Navy in a manner consistent with Reuse Master Plan and provides the local communities in the Brunswick Labor Market Area with the opportunity for economic development and job creation.

Dated: February 8, 2011.
D.J. Werner,
Lieutenant Commander, Office of the Judge Advocate General, U.S. Navy, Federal Register Liaison Officer.

[FR Doc. 2011-3402 Filed 2-14-11; 8:45 am]

BILLING CODE 3810-FF-P